DEPARTMENT OF TRANSPORTATION

Federal Aviation Administration

14 CFR Part 39

[Docket No. FAA-2020-1028; Project Identifier AD-2020-00978-T; Amendment 39-21599; AD 2021-12-12]

RIN 2120-AA64

Airworthiness Directives; The Boeing Company Airplanes

AGENCY: Federal Aviation Administration (FAA), DOT.

ACTION: Final rule.

SUMMARY: The FAA is adopting a new airworthiness directive (AD) for all The Boeing Company Model 717-200 airplanes. This AD was prompted by a report of discrepant spoiler assemblies, which have the wrong splice bar installed and lack reinforcing doublers, and by reports that some splice bars were shipped for installation on Model 717-200 airplanes, although they were not eligible for installation on Model 717-200 airplanes and were identified incorrectly with the Model 717-200 splice bar part number. This AD requires a one-time inspection of the left- and right-wing inboard and outboard spoiler assemblies, for the correct configuration of the splice bar and doublers, and repair or replacement if necessary. The FAA is issuing this AD to address the unsafe condition on these products.

DATES: This AD is effective July 29, 2021.

The Director of the Federal Register approved the incorporation by reference of a certain publication listed in this AD as of July 29, 2021.

ADDRESSES: For service information identified in this final rule, contact Boeing Commercial Airplanes, Attention: Contractual & Data Services (C&DS), 2600 Westminster Blvd., MC 110-SK57, Seal Beach, CA 90740-5600; telephone 562-797-1717; internet https://www.myboeingfleet.com. You may view this service information at the FAA, Airworthiness Products Section, Operational Safety Branch, 2200 South 216th St., Des Moines, WA. For information on the availability of this material at the FAA, call 206-231-3195. It is also available at https://www.regulations.gov by searching for and locating Docket No. FAA-2020-1028.

Examining the AD Docket

You may examine the AD docket at https://www.regulations.gov by searching for and locating Docket No. FAA-2020-1028; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Mohit Garg, Aerospace Engineer, Airframe Section, FAA, Los Angeles ACO Branch, 3960 Paramount Boulevard, Lakewood, CA 90712-4137; phone: 562-627-5264; fax: 562-627-5210; email: mohit.garg@faa.gov.

SUPPLEMENTARY INFORMATION:

Background

The FAA issued a notice of proposed rulemaking (NPRM) to amend 14 CFR part 39 by adding an AD that would apply to all The Boeing Company Model 717-200 airplanes. The NPRM published in the Federal Register on December 29, 2020 (85 FR 85559). The NPRM was prompted by a report of discrepant spoiler assemblies, which have the wrong splice bar installed and lack reinforcing doublers, and by reports that some splice bars were shipped for installation on Model 717-200 airplanes, although they were not eligible for installation on Model 717-200 airplanes and were identified incorrectly with the Model 717-200 splice bar part number. In the NPRM, the FAA proposed to require a one-time inspection of the left- and right-wing inboard and outboard spoiler assemblies for the correct splice bar and doublers configuration, and repair if necessary. The FAA is issuing this AD to address splice bars which are not structurally adequate, which can lead to failure of the splice bar to keep the spoiler drive link engaged, and could result in spoiler float and consequent reduced controllability of the airplane.

Discussion of Final Airworthiness Directive

Comments

The FAA received comments from The Air Line Pilots Association, International (ALPA) and Boeing, who supported the NPRM without change.

The FAA received comments from two additional commenters, Delta Air Lines (Delta) and Hawaiian Airlines. The following presents the comments received on the NPRM and the FAA's response to each comment.

Request To Revise Compliance Time

Delta asked that the compliance time of the proposed AD be changed to 27 months of “flying days” instead of calendar days. Delta stated that paragraph (g) of the proposed AD states, in part, “At the applicable times specified in the “Compliance” paragraph of Boeing Alert Requirements Bulletin 717-57A0027 RB, dated June 26, 2020.” Delta noted that Paragraph 1.E., Compliance, of the referenced service information requires a general visual inspection for the correct splice bar and doubler configuration within 6,400 flight hours or 27 months. Delta added that because of the Covid-19 pandemic airlines have a large quantity of aircraft in storage, so changing to flight time would not affect the unsafe condition.

The FAA does not agree with the commenter's request. In developing an appropriate compliance time for this action, the FAA considered the degree of urgency associated with addressing the subject unsafe condition, the manufacturer's recommendation for an appropriate compliance time, and the practical aspect of accomplishing the required inspection within a period of time that corresponds to the normal scheduled maintenance for most affected operators. In addition, the FAA notes that some Model 717-200 airplanes may have been in service during the pandemic and must comply within the required compliance time. Operators do have the option to inspect the airplane before the first flight following storage if the airplane is in storage for more than 27 months. However, under the provisions of paragraph (k) of this AD, the FAA will consider requests for approval of an extension of the compliance time if sufficient data are submitted to substantiate that the new compliance time would provide an acceptable level of safety.

Requests To Allow Alternative Methods for Corrective Action

Hawaiian Airlines asked that paragraph (h)(2) of the proposed AD, which requires obtaining approval of an alternative method of compliance (AMOC) for repair of any discrepant spoiler, be changed to add another method: Removal and replacement of the discrepant spoiler with a serviceable spoiler that has the correct splice bar and doublers using the procedure specified in the Model 717 airplane maintenance manual (AMM), Chapter 27-60-01. Hawaiian Airlines stated that this would alleviate further out-of-service time of the aircraft, and the discrepant spoiler can be repaired off-wing.

The FAA agrees with the commenter's request. The FAA has added paragraphs (h)(2)(i) and (ii) of this AD to specify that either repair using a method approved in accordance with the procedures specified in paragraph (k) of this AD or replacement of any spoiler assembly having an incorrect configuration with a replacement spoiler assembly is acceptable for compliance with this AD. The FAA notes that a replacement spoiler assembly must have a correct configuration as specified in Boeing Alert Requirements Bulletin 717-57A0027 RB, dated June 26, 2020. The FAA has also added Note 2 to paragraph (h)(2)(ii) to specify that guidance for replacement can be found in Model 717 AMM, Chapter 27-60-01.

Delta requested the FAA provide an approved method to correct the unsafe condition by removing and discarding any non-blueprint parts and re-assembling per original equipment manufacturer (OEM) spoiler drawing 5940974-1/-2/-501/-502. Delta stated that the OEM spoiler drawing was acceptable for the type certification basis for the Model 717-200 airplane during assembly of the aircraft. Delta added that restoring the spoiler to the OEM blueprint would restore the part to an approved configuration with the unsafe condition removed.

The FAA disagrees with the commenter's request. An operator cannot bring a discrepant spoiler assembly back to the OEM correct configuration without modifying the underlying spoiler structure. Modifying the spoiler assembly requires repair instructions from the OEM. An operator may request an AMOC under the provisions of paragraph (k) of this AD.

Conclusion

The FAA reviewed the relevant data, considered any comments received, and determined that air safety requires adopting this AD as proposed. Except for minor editorial changes, and any other changes described previously, this AD is adopted as proposed in the NPRM. None of the changes will increase the economic burden on any operator.

Related Service Information Under 1 CFR Part 51

The FAA reviewed Boeing Alert Requirements Bulletin 717-57A0027 RB, dated June 26, 2020. This service information describes procedures for a one-time general visual inspection of the left- and right-wing inboard and outboard spoiler assemblies for the correct splice bar and doublers configuration, and repair. This service information is reasonably available because the interested parties have access to it through their normal course of business or by the means identified in ADDRESSES.

Costs of Compliance

The FAA estimates that this AD affects 114 airplanes of U.S. registry. The FAA estimates the following costs to comply with this AD:

Estimated Costs for Required Actions
Action | Labor cost | Parts cost | Cost per product | Cost on U.S. operators
Inspection | 4 work-hours × $85 per hour = $340 | $0 | $340 | $38,760

The FAA estimates the following costs to do any necessary on-condition actions that would be required. The FAA has no way of determining the number of aircraft that might need these on-condition actions:

Estimated Costs of On-Condition Actions
Labor cost | Parts cost | Cost per product
Up to 2 work-hour × $85 per hour = Up to $170 per spoiler assembly | $5,432 per spoiler assembly | Up to $5,602 per spoiler assembly.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-12-12 The Boeing Company: Amendment 39-21599; Docket No. FAA-2020-1028; Project Identifier AD-2020-00978-T.

(a) Effective Date

This airworthiness directive (AD) is effective July 29, 2021.

(b) Affected ADs

None.

(c) Applicability

This AD applies to all The Boeing Company Model 717-200 airplanes, certificated in any category.

(d) Subject

Air Transport Association (ATA) of America Code 57, Wings.

(e) Unsafe Condition

This AD was prompted by a report of discrepant spoiler assemblies, which have the wrong splice bar installed and lack reinforcing doublers. The FAA is issuing this AD to address splice bars which are not structurally adequate, which can lead to failure of the splice bar to keep the spoiler drive link engaged, and could result in spoiler float and consequent reduced controllability of the airplane.

(f) Compliance

Comply with this AD within the compliance times specified, unless already done.

(g) Required Actions

Except as specified by paragraph (h) of this AD: At the applicable times specified in the “Compliance” paragraph of Boeing Alert Requirements Bulletin 717-57A0027 RB, dated June 26, 2020, do all applicable actions identified in, and in accordance with, the Accomplishment Instructions of Boeing Alert Requirements Bulletin 717-57A0027 RB, dated June 26, 2020.

Note 1 to paragraph (g): Guidance for accomplishing the actions required by this AD can be found in Boeing Alert Service Bulletin 717-57A0027, dated June 26, 2020, which is referred to in Boeing Alert Requirements Bulletin 717-57A0027 RB, dated June 26, 2020.

(h) Exceptions to Service Information Specifications

(1) Where Boeing Alert Requirements Bulletin 717-57A0027 RB, dated June 26, 2020, uses the phrase “the original issue date of Requirements Bulletin 717-57A0027 RB,” this AD requires using “the effective date of this AD.”

(2) Where Boeing Alert Requirements Bulletin 717-57A0027 RB, dated June 26, 2020, specifies contacting Boeing for repair instructions: This AD requires doing the actions specified in paragraph (h)(2)(i) or (ii) of this AD before further flight.

(i) Repair using a method approved in accordance with the procedures specified in paragraph (k) of this AD.

(ii) Replace any spoiler assembly having incorrect configuration with a replacement spoiler assembly. A replacement spoiler assembly must have a correct configuration as specified in Boeing Alert Requirements Bulletin 717-57A0027 RB, dated June 26, 2020.

Note 2 to paragraph (h)(2)(ii): Guidance for replacing the spoiler assembly with the correct configuration spoiler assembly can be found in Model 717 Airplane Maintenance Manual (AMM), Chapter 27-60-01.

(i) Credit for Previous Actions

This paragraph provides credit for the actions specified in paragraph (g) of this AD, if those actions were performed before the effective date of this AD using Boeing Multi Operator Message MOM-MOM-19-0572-01B, dated October 16, 2019.

(j) Parts Installation Limitation

As of the effective date of this AD, no person may install, on any airplane, any affected spoiler assembly (a spoiler assembly that does not have a splice bar having part number 3914588-501 and two doublers having part number 5940974-31), unless it has been inspected and all applicable corrective actions have been done as specified in paragraph (g) of this AD.

(k) Alternative Methods of Compliance (AMOCs)

(1) The Manager, Los Angeles ACO Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (l)(1) of this AD. Information may be emailed to: 9-ANM-LAACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, Los Angeles ACO Branch, FAA, to make those findings. To be approved, the repair method, modification deviation, or alteration deviation must meet the certification basis of the airplane, and the approval must specifically refer to this AD.

(l) Related Information

(1) For more information about this AD, contact Mohit Garg, Aerospace Engineer, Airframe Section, FAA, Los Angeles ACO Branch, 3960 Paramount Boulevard, Lakewood, CA 90712-4137; phone: 562-627-5264; fax: 562-627-5210; email: mohit.garg@faa.gov.

(2) Service information identified in this AD that is not incorporated by reference is available at the addresses specified in paragraphs (m)(3) and (4) of this AD.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Requirements Bulletin 717-57A0027 RB, dated June 26, 2020.

(ii) [Reserved]

(3) For service information identified in this AD, contact Boeing Commercial Airplanes, Attention: Contractual & Data Services (C&DS), 2600 Westminster Blvd., MC 110-SK57, Seal Beach, CA 90740-5600; telephone 562-797-1717; internet https://www.myboeingfleet.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fedreg.legal@nara.gov, or go to: https://www.archives.gov/federal-register/cfr/ibr-locations.html.

Issued on June 3, 2021.
Gaetano A. Sciortino,
Deputy Director for Strategic Initiatives, Compliance & Airworthiness Division, Aircraft Certification Service.

[FR Doc. 2021-13124 Filed 6-23-21; 8:45 am]

BILLING CODE 4910-13-P